DEPARTMENT OF TRANSPORTATION

Federal Aviation Administration

14 CFR Part 39

[Docket No. 81-ASW-27; Amendment 39-12555; AD 81-18-01 R1]

RIN 2120-AA64

Airworthiness Directives; Bell Helicopter Textron, Inc. Model 206A, 206B, 206A-1, 206B-1, 206L, and 206L-1 Helicopters

AGENCY: Federal Aviation Administration, DOT.

ACTION: Final rule.

SUMMARY: This amendment revises an existing airworthiness directive (AD) for Bell Helicopter Textron, Inc. (BHTI) Model 206A, 206B, 206A-1, 206B-1, 206L, and 206L-1 helicopters that currently establishes a retirement life for the main rotor trunnion (trunnion) based on hours time-in-service (TIS). This amendment retains those requirements but revises the AD to remove the trunnion, part number (P/N) 206-011-120-103, from the applicability. This amendment is prompted by the issuance of another AD for the BHTI Model 206L and 206L-1 helicopters that requires a different method of calculating the retirement life for the trunnions. The actions specified by this AD are intended to prevent failure of the trunnion due to fatigue cracks and subsequent loss of control of the helicopter.

EFFECTIVE DATE: January 15, 2002.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION: A proposal to amend 14 CFR part 39 by revising AD 81-18-01, Amendment 39-4192 (46 FR 42651, August 24, 1981), which applies to BHTI Model 206A, 206B, 206A-1, 206B-1, 206L, and 206L-1 helicopters, was published in the Federal Register on September 13, 2001 (66 FR 47600). The action proposed to revise AD 81-18-01 to remove the trunnion, P/N 206-011-120-103, from the applicability so that the trunnions on BHTI Model 206L series helicopters would only be affected by the RIN retirement life as required by AD 99-17-19 (64 FR 45433, August 20, 1999). The BHTI Model 206L and 206L1 helicopters are included in this AD because the other trunnions affected by the AD may be installed on these helicopters.

Interested persons have been afforded an opportunity to participate in the making of this amendment. No comments were received on the proposal or the FAA's determination of the cost to the public. The FAA has determined that air safety and the public interest require the adoption of the rule as proposed.

The FAA estimates that since the requirements of the AD are not changed and fewer helicopters of U.S. registry will be affected by this AD revision, there will be no additional cost impact from the AD revision on U.S. operators.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-4192 (46 FR 42651, August 24, 1981), and by adding a new airworthiness directive (AD), Amendment 39-12555, to read as follows:

81-18-01 R1 Bell Helicopter Textron, Inc.: Amendment 39-12555. Docket No. 81-ASW-27. Revises AD 81-18-01, Amendment 39-4192, Docket No. 81-ASW-27.

Applicability: Model 206A, 206B, 206A-1, 206B-1, 206L, and 206L-1 helicopters, with main rotor trunnion (trunnion), part number (P/N) 206-010-104-3, 206-011-113-001, 206-011-120-001, or 206-011-113-103, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (i) of this AD. The request should include an assessment of the effect of the modification, alteration, or repair on the unsafe condition addressed by this AD; and if the unsafe condition has not been eliminated, the request should include specific proposed actions to address it.

Compliance: Required as indicated, unless accomplished previously.

To prevent failure of the trunnion due to fatigue cracks, accomplish the following:

(a) Any trunnion, P/N 206-011-120-001, with 1100 or more hours time-in-service (TIS) must be retired from service within the next 100 hours TIS.

(b) Any trunnion, P/N 206-011-120-001, with less than 1100 hours TIS must be retired from service on or before attaining 1200 hours TIS.

(c) Any trunnion, P/N 206-010-104-3 and 206-011-113-001, with 2300 or more hours TIS must be retired from service within the next 100 hours TIS.

(d) Any trunnion, P/N 206-010-104-3 and 206-011-113-001, with less than 2300 hours TIS must be retired from service on or before attaining 2400 hours TIS.

(e) Any trunnion, P/N 206-011-113-103, with 4700 or more hours TIS must be retired from service within the next 100 hours TIS.

(f) Any trunnion, P/N 206-011-113-103, with less than 4700 hours TIS must be retired from service on or before attaining 4800 hours TIS.

(g) The retirement times, for the trunnions, established by this AD, are as follows:

P/N | Service life hours TIS
206-011-120-001 | 1200
206-010-104-3 | 2400
206-011-113-001 | 2400
206-011-113-103 | 4800

Note 2: The FAA issued AD 99-17-19 (64 FR 45433, August 20, 1999) to establish a retirement life for trunnion, P/N 206-011-120-103.

(h) This AD revises the Limitations section of the maintenance manual by establishing a retirement life of 1200 hours TIS for trunnion, P/N 206-011-120-001; 2400 hours TIS for P/N 206-010-104-3 and 206-011-113-001; and 4800 hours TIS for P/N 206-011-113-103.

Note 3: Bell Helicopter Textron Alert Service Bulletins 206-80-7 and 206L-80-9, both Revision B, and dated October 15, 1980, pertain to the subject of this AD.

(i) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 4: Information concerning the existence of approved alternative methods of compliance with this AD, if any, may be obtained from the Regulations Group.

(j) Special flight permits may be issued in accordance with 14 CFR 21.197 and 21.199 to operate the helicopter to a location where the requirements of this AD can be accomplished.

(k) This amendment becomes effective on January 15, 2002.

Issued in Fort Worth, Texas, on November 30, 2001.
David A. Downey,
Manager, Rotorcraft Directorate, Aircraft Certification Service.

[FR Doc. 01-30498 Filed 12-10-01; 8:45 am]

BILLING CODE 4910-13-U